DEPARTMENT OF HOMELAND SECURITY

Coast Guard

33 CFR Part 165

[Docket No. USCG-2013-0140]

Safety Zone; USA Triathlon; Milwaukee Harbor, Milwaukee, Wisconsin.

AGENCY: Coast Guard, DHS.

ACTION: Notice of enforcement of regulation.

SUMMARY: The Coast Guard will enforce the safety zone on Lake Michigan within Milwaukee Harbor, Wisconsin for the 2013 Olympic and Sprint Distance National Championships. This action is necessary and intended to ensure safety of life on the navigable waters during the 2013 Olympic and Sprint Distance National Championships. During the aforementioned periods, the Coast Guard will enforce restrictions upon, and control movement of, vessels in a specified safety zone. During the enforcement periods, no person or vessel may enter the safety zone without permission of the Captain of the Port, Lake Michigan.

DATES: This zone will be enforced from 10:15 a.m. until 1:15 p.m. on August 9, from 6:30 a.m. until 11:30 a.m. on August 10, and from 6:30 a.m. until 10:30 a.m. on August 11, 2013.

FOR FURTHER INFORMATION CONTACT: If you have questions on this notice, call or email MST1 Joseph McCollum, Prevention Department, Coast Guard Sector Lake Michigan, Milwaukee, WI at (414) 747-7148, email Joseph.P.McCollum@uscg.mil.

SUPPLEMENTARY INFORMATION: The Coast Guard will enforce the safety zone listed in 33 CFR 165.T09-0140 Safety Zone; USA Triathlon, Milwaukee Harbor, Milwaukee, Wisconsin for the 2013 Olympic and Sprint Distance National Championships from 10:15 a.m. until 1:15 p.m. on August 9, from 6:30 a.m. until 11:30 a.m. on August 10, and from 6:30 a.m. until 10:30 a.m. on August 11, 2013. This zone encompasses all waters of Milwaukee Harbor, including Lakeshore inlet and Discovery World Marina, west of a line across the entrance to the Discovery World Marina connecting 43°02′15.1″ N, 087°53′37.4″ W and 43°01′44.2″ N, 087°53′44.6″ W (NAD 83).

All vessels must obtain permission from the Captain of the Port, Lake Michigan, or his or her on-scene representative to enter, move within, or exit a safety zone. Vessels and persons granted permission to enter the safety zone shall obey all lawful orders or directions of the Captain of the Port, Lake Michigan, or a designated representative.

This notice is issued under authority of 33 CFR 165.T09-0140 and 5 U.S.C. 552(a). In addition to this notice in the Federal Register, the Coast Guard will provide the maritime community with advance notification of this event via Broadcast Notice to Mariners or Local Notice to Mariners. The Captain of the Port, Lake Michigan, or his or her on-scene representative may be contacted via VHF Channel 16.

Dated: July 1, 2013.
M.W. Sibley,
Captain, U.S. Coast Guard, Captain of the Port, Lake Michigan.

[FR Doc. 2013-17107 Filed 7-16-13; 8:45 am]

BILLING CODE 9110-04-P